DEPARTMENT OF COMMERCE

International Trade Administration

[A-570-930]

Circular Welded Austenitic Stainless Pressure Pipe From the People's Republic of China: Preliminary Results of Antidumping Duty Administrative Review

AGENCY: Import Administration, International Trade Administration, Department of Commerce.

DATES: Effective Date: March 31, 2011.

SUMMARY: The Department of Commerce (“the Department”) is conducting the first administrative review of the antidumping duty order on circular welded austenitic stainless pressure pipe (“austenitic pipe”) from the People's Republic of China (“PRC”). The period of review (“POR”) is September 5, 2008, through February 28, 2010. The Department has preliminarily determined that sales have not been made below normal value (“NV”) by the respondent during the POR. Interested parties are invited to comment on these preliminary results. We intend to issue the final results of this review no later than 120 days from the date of publication of this notice.

FOR FURTHER INFORMATION CONTACT: Brandon Farlander or Patrick O'Connor, AD/CVD Operations, Office 4, Import Administration, International Trade Administration, U.S. Department of Commerce, 14th Street and Constitution Avenue, NW., Washington, DC 20230, telephone: (202) 482-0182 or (202) 482-0989 respectively.

SUPPLEMENTARY INFORMATION:

Background

On March 17, 2009, the Department published in the Federal Register the antidumping duty order on austenitic pipe from the PRC.¹ On March 1, 2010, the Department published a notice of opportunity to request an administrative review of the austenitic pipe order.²

¹ See Antidumping Duty Order: Circular Welded Austenitic Stainless Pressure Pipe from the People's Republic of China, 74 FR 11351 (March 17, 2009).

² See Antidumping or Countervailing Duty Order, Finding, or Suspended Investigation; Opportunity To Request Administrative Review, 75 FR 9162 (March 1, 2010).

The Department received a timely request for an administrative review of the austenitic pipe order from Zhejiang Jiuli Hi-Tech Metals Co., Ltd. (“Jiuli TC”) on March 31, 2010, in accordance with section 751(a) of Tariff Act of 1930, as amended (the “Act”). On April 27, 2010, the Department published in the Federal Register a notice of initiation of an administrative review of the austenitic pipe order.³

³ See Initiation of Antidumping and Countervailing Duty Administrative Reviews and Request for Revocation in Part, 75 FR 22107 (April 27, 2010).

The Department issued its initial and supplemental questionnaires to Jiuli TC from May to December 2010. The Department received questionnaire responses from June to December 2010. On July 30, 2010, Petitioners ⁴ submitted comments to the Department regarding certain submissions and responses of Jiuli TC.

⁴ Petitioners are Bristol Metals, LLC; Felker Brothers Corporation; Marcegaglia U.S.A., Inc.; and Outokumpu Stainless Products.

On September 15, 2010, the Department released a letter to interested parties which listed potential surrogate countries and invited interested parties to comment on surrogate country and surrogate value (“SV”) selection. Between August and October 2010, Petitioners and Jiuli TC submitted publicly available SV information, as well as comments and rebuttal comments on the selection of a surrogate country and SVs. For a discussion of the selection of the surrogate country, see “Surrogate Country” section below.

On November 19, 2010, pursuant to section 751(a)(3)(A) of the Act, the Department extended the time period for completing the preliminary results of review by 120 days.⁵

⁵ See Circular Welded Austenitic Stainless Pressure Pipe From the People's Republic of China: Extension of the Time Limit for the Preliminary Results of the Antidumping Duty Administrative Review, 75 FR 70908 (November 19, 2010).

From January 10 to January 14, 2011, the Department conducted a verification of Jiuli TC in the PRC. On January 26 and 27, 2011, the Department verified Jiuli TC's U.S. affiliate in Houston, Texas.

Scope of the Order

The merchandise covered by the order is circular welded austenitic stainless pressure pipe not greater than 14 inches in outside diameter. This merchandise includes, but is not limited to, the American Society for Testing and Materials (“ASTM”) A-312 or ASTM A-778 specifications, or comparable domestic or foreign specifications. ASTM A-358 products are only included when they are produced to meet ASTM A-312 or ASTM A-778 specifications, or comparable domestic or foreign specifications. Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040; 7306.40.5062; 7306.40.5064; and 7306.40.5085 of the Harmonized Tariff Schedule of the United States (“HTSUS”). They may also enter under HTSUS subheadings 7306.40.1010; 7306.40.1015; 7306.40.5042; 7306.40.5044; 7306.40.5080; and 7306.40.5090. The HTSUS subheadings are provided for convenience and customs purposes only, the written description of the scope of the order is dispositive.

Verification

As provided in section 782(i) of the Act, we verified the information provided by Jiuli TC using standard verification procedures including on-site inspection of the manufacturer's facilities and the examination of relevant sales and financial records. Our verification results are outlined in the PRC and U.S. verification reports,⁶ the public versions of which are available in the Central Records Unit, Room 7046 of the main Department building.

⁶ See memoranda to the file through Howard Smith, Program Manager, AD/CVD Operations, Office 4, entitled “Verification of the Questionnaire Responses of Zhejiang Jiuli Hi-Tech Metals Co., Ltd.” (“PRC verification report”) and “Verification of the Questionnaire Responses of Zhejiang Jiuli Hi-Tech Metals Co., Ltd.'s (“Jiuli TC”) U.S. affiliate Jiuli USA, Inc.”, dated February 25, 2011.

Affiliation and Collapsing

Based on the evidence presented in Jiuli TC's questionnaire responses and at verification, which is that Jiuli TC owns 75 percent of Huzhou Jiuli Welded Stainless Steel Pipe Co., Ltd. (“Jiuli SD Co.”), we preliminarily find affiliation between Jiuli TC and Jiuli SD Co. pursuant to section 771(33)(E) of the Act.

In addition, pursuant to 19 CFR 351.401(f), the Department will treat affiliated producers as a single entity, or “collapse” them, where: (1) The producers have production facilities for producing similar or identical products that would not require substantial retooling of either facility in order to restructure manufacturing priorities; and (2) there is a significant potential for manipulation of price or production. In determining whether a significant potential for manipulation exists, 19 CFR 351.401(f)(2) states that the Department may consider various factors, including: (i) The level of common ownership; (ii) the extent to which managerial employees or board members of one firm sit on the board of directors of an affiliated firm; and (iii) whether the operations of the affiliated firms are intertwined through the sharing of sales information, involvement in production and pricing decisions, the sharing of facilities or employees, or significant transactions between the affiliated producers.

The Department preliminarily concludes that the totality of the record evidence supports collapsing Jiuli TC and Jiuli SD Co. into a single entity, pursuant to 19 CFR 351.401(f)(1) and (2). Accordingly, the Department preliminarily based its margin calculation on information submitted pertaining to Jiuli TC and Jiuli SD Co. For further discussion on the Department's decision to collapse Jiuli TC with Jiuli SD Co., see the memorandum to Abdelali Elouaradia, Office Director, “Whether to Collapse Zhejiang Jiuli Hi-Tech Metals Co., Ltd. and Huzhou Jiuli Welded Stainless Steel Pipe Co., Ltd.”, dated concurrently with this notice.⁷

⁷ We are treating Zhejiang Jiuli Hi-Tech Metals Co., Ltd. and Huzhou Jiuli Welded Stainless Steel Pipe Co., Ltd. as the combined entity, “Jiuli TC.”

Non-Market Economy Treatment

In every case conducted by the Department involving the PRC, the PRC has been treated as a non-market economy (“NME”) country. In accordance with section 771(18)(C)(i) of the Act, any determination that a foreign country is an NME country shall remain in effect until revoked by the administering authority. No party has challenged the designation of the PRC as an NME country in this review. Accordingly, the Department calculated NV in accordance with section 773(c) of the Act, which applies to NME countries.

Surrogate Country

When the Department reviews imports from an NME country, section 773(c)(1) of the Act directs it to base NV, in most circumstances, on the NME producer's factors of production (“FOPs”) valued in a surrogate market-economy country or countries considered to be appropriate by the Department. In accordance with section 773(c)(4) of the Act, in valuing the FOPs, the Department shall utilize, to the extent possible, the prices or costs of FOPs in one or more market-economy countries that are: (A) At a level of economic development comparable to that of the NME country, and (B) significant producers of comparable merchandise. Further, pursuant to 19 CFR 351.408(c)(2), the Department will normally value all FOPs in a single country, except for labor.

During this review, the Department identified India, the Philippines, Indonesia, Thailand, Ukraine, and Peru as a non-exhaustive list of countries that are at a level of economic development comparable to the PRC and for which good quality data is most likely available.⁸ Once the countries that are economically comparable to the PRC have been identified, the Department selects an appropriate surrogate country by determining whether an economically comparable country is a significant producer of comparable merchandise and whether the data for valuing FOPs are both available and reliable.

⁸ See Memorandum from Carole Showers, Director, Office of Policy, to Howard Smith, Program Manager, AD/CVD Operations, Office 4, “Request for a List of Surrogate Countries for an Administrative Review of the Antidumping Duty Order on Circular Welded Austenitic Stainless Pressure Pipe” (August 30, 2010).

The Department has preliminarily determined that it is appropriate to use India as a surrogate country pursuant to section 773(c)(4) of the Act based on the following: (A) It is at a level of economic development comparable to the PRC; (B) it is a significant producer of comparable merchandise.⁹ Also, there is reliable data from India that can be used to value the FOPs. Thus, the Department calculated NV using publicly available Indian prices when available and appropriate to value the FOPs of Jiuli TC.¹⁰

⁹ See the financial statements of Ratnamani Metals & Tubes, Ltd. (“Ratnamani”) and Jindal SAW, Ltd. (“Jindal”) for the fiscal year January 1, 2009, through March 31, 2010, in Petitioners' October 12, 2010 SV submission at Exhibits 10 and 11. Ratnamani's and Jindal's financial statements at 2, 39, 41, 42, and 44 and at 19, 26-29, 71, and 72, respectively, demonstrate that these companies produce merchandise both identical and comparable to subject merchandise. Hence, based on Ratnamani's and Jindal's production experience during the POR, we determine that India is a significant producer of identical and comparable merchandise.

¹⁰ See Memorandum to the File from Brandon Farlander and Patrick O'Connor, International Trade Compliance Analysts, AD/CVD Operations, Office 4, “Administrative Review of Circular Welded Austenitic Stainless Pressure Pipe from the People's Republic of China: Surrogate Value Memorandum,” (March 25, 2011) (“Surrogate Value Memorandum”).

In accordance with 19 CFR 351.301(c)(3)(ii), interested parties may submit publicly-available information to value FOPs until 20 days after the date of publication of the preliminary results of this review.¹¹

¹¹ In accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information placed on the record. The Department generally will not accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Separate Rates

In proceedings involving NME countries, the Department holds a rebuttable presumption that all companies within the country are subject to government control and thus should be assessed a single antidumping duty rate. It is the Department's policy to assign all exporters of subject merchandise in an NME country this single rate unless an exporter can demonstrate that it is sufficiently independent so as to be entitled to a separate rate. Exporters can demonstrate this independence through the absence of both de jure and de facto governmental control over export activities. The Department analyzes each entity exporting the subject merchandise under the test announced in the Final Determination of Sales at Less Than Fair Value: Sparklers from the People's Republic of China, 56 FR 20588 (May 6, 1991) (“Sparklers”), as further developed in Notice of Final Determination of Sales at Less Than Fair Value: Silicon Carbide from the People's Republic of China, 59 FR 22585 (May 2, 1994) (“Silicon Carbide”). However, if the Department determines that a company is wholly foreign-owned or located in a market economy, then a separate rate analysis is not necessary to determine whether it is independent from government control.¹²

¹² See Notice of Final Determination of Sales at Less Than Fair Value: Creatine Monohydrate From the People's Republic of China, 64 FR 71104, 71105 (December 20, 1999) (where the respondent was wholly foreign-owned and thus qualified for a separate rate).

Jiuli TC provided evidence that it is a publicly traded company on the Shenzhen Stock Exchange with Jiuli Group Joint Stock Ltd., a Chinese entity, as its primary shareholder.¹³

¹³ See Jiuli TC's Section A response, dated June 7, 2010, at 3-5 and PRC verification report at 5.

Thus, the Department has analyzed whether Jiuli TC has demonstrated the absence of de jure and de facto governmental control over its export activities.

a. Absence of De Jure Control

The Department considers the following de jure criteria in determining whether an individual company may be granted a separate rate: (1) An absence of restrictive stipulations associated with an individual exporter's business and export license; (2) legislative enactments decentralizing control of companies; and (3) other formal measures by the government decentralizing control of companies.¹⁴

¹⁴ See Sparklers, 56 FR at 20589.

The evidence provided by Jiuli TC supports a preliminary finding of de jure absence of governmental control based on the following: (1) An absence of restrictive stipulations associated with the individual exporter's business and export licenses; (2) the existence of applicable legislative enactments decentralizing control of Chinese companies; and (3) the implementation of formal measures by the government decentralizing control of Chinese companies.¹⁵

¹⁵ See Jiuli TC's Section A response, dated June 7, 2010, at 3-5 and PRC verification report at 5-7.

b. Absence of De Facto Control

The Department considers four factors in evaluating whether each respondent is subject to de facto governmental control of its export functions: (1) Whether the export prices are set by or are subject to the approval of a governmental agency; (2) whether the respondent has authority to negotiate and sign contracts and other agreements; (3) whether the respondent has autonomy from the government in making decisions regarding the selection of management; and (4) whether the respondent retains the proceeds of its export sales and makes independent decisions regarding disposition of profits or financing of losses.¹⁶ The Department has determined that an analysis of de facto control is critical in determining whether respondents are, in fact, subject to a degree of governmental control which would preclude the Department from assigning separate rates.

¹⁶ See Silicon Carbide, 59 FR at 22586-87; see also Notice of Final Determination of Sales at Less Than Fair Value: Furfuryl Alcohol From the People's Republic of China, 60 FR 22544, 22545 (May 8, 1995).

The evidence provided by Jiuli TC supports a preliminary finding of de facto absence of governmental control based on statements and supporting documentation showing that the company: (1) Set its own export prices independent of the government and without the approval of a government authority; (2) has the authority to negotiate and sign contracts and other agreements; (3) maintains autonomy from the government in making decisions regarding the selection of management; and (4) retains the proceeds of its export sales and makes independent decisions regarding disposition of profits or financing of losses.¹⁷

¹⁷ See Jiuli TC's Section A response, dated June 7, 2010, at 5-7 and PRC verification report at 7-9.

Therefore, the evidence placed on the record of this review by Jiuli TC demonstrates an absence of de jure and de facto government control under the criteria identified in Sparklers and Silicon Carbide. Accordingly, the Department has preliminarily granted Jiuli TC separate rate status.¹⁸

¹⁸ See “Preliminary Results of Review” section below.

Fair Value Comparison

In accordance with section 777A(d)(2) of the Act, to determine whether sales of austenitic pipe to the United States by Jiuli TC were made at less than NV, the Department compared the weighted-average export price (“EP”) and constructed export price (“CEP”) to NV, as described in the “U.S. Price” and “Normal Value” sections of this notice.

U.S. Price

In accordance with section 772(a) of the Act, the Department used EP as the basis for U.S. price for Jiuli TC's sales where the first sale to unaffiliated purchasers was made prior to importation. In accordance with section 772(c) of the Act, the Department calculated EP for Jiuli TC by deducting inland freight from the plant to the port, domestic brokerage and handling, international freight and marine insurance expenses from the starting price charged to the first unaffiliated customer in the United States.¹⁹ In accordance with section 772(b) of the Act, the Department used CEP as the basis for U.S. price for Jiuli TC's sales where Jiuli TC first sold subject merchandise to its affiliated company in the United States (Jiuli USA, Inc.), which in turn sold subject merchandise to unaffiliated U.S. customers. In accordance with section 772(b) of the Act, CEP is the price at which the subject merchandise is first sold (or agreed to be sold) in the United States before or after the date of importation by or for the account of the producer or exporter of such merchandise or by a seller affiliated with the producer or exporter, to a purchaser not affiliated with the producer or exporter, as adjusted under sections 772(c) and (d) of the Act. The Department calculated CEP for Jiuli TC based on prices to unaffiliated purchasers in the United States and made deductions, where applicable, from the U.S. sales price for movement expenses (inland freight from the plant to the port and domestic brokerage and handling), in accordance with section 772(c)(2)(A) of the Act.²⁰ In accordance with section 772(d)(1) of the Act, the Department deducted early payment discounts, credit expenses and indirect selling expenses from the U.S. price, all of which relate to commercial activity in the United States. Also, the Department deducted CEP profit, in accordance with sections 772(d)(3) and 772(f) of the Act. Additionally, for the expenses that were either provided by an NME vendor or paid for using an NME currency, the Department based the expenses on SVs, as appropriate. For details regarding the CEP calculation, see Jiuli TC Analysis Memorandum.

¹⁹ See memorandum from Brandon Farlander and Patrick O'Connor, International Trade Compliance Analysts, AD/CVD Operations, Office 4, to the File, “Administrative Review of Circular Welded Austenitic Stainless Pressure Pipe from the People's Republic of China: Preliminary Analysis Memorandum for Zhejiang Jiuli Hi-Tech Metals Co., Ltd.” (March 25, 2011) (“Jiuli TC Analysis Memorandum”).

²⁰ See Jiuli TC Analysis Memorandum.

Normal Value

Section 773(c)(1) of the Act provides that the Department shall determine NV using an FOP methodology if the merchandise is exported from an NME country and the information does not permit the calculation of NV using home-market prices, third-country prices, or constructed value under section 773(a) of the Act. The Department bases NV on FOPs because the presence of government controls on various aspects of NMEs renders price comparisons and the calculation of production costs invalid under the Department's normal methodologies.²¹

²¹ See, e.g., Preliminary Determination of Sales at Less Than Fair Value, Affirmative Critical Circumstances, In Part, and Postponement of Final Determination: Certain Lined Paper Products from the People's Republic of China, 71 FR 19695, 19703 (April 17, 2006), unchanged in Notice of Final Determination of Sales at Less Than Fair Value, and Affirmative Critical Circumstances, In Part: Certain Lined Paper Products From the People's Republic of China, 71 FR 53079 (September 8, 2006).

Under section 773(c)(3) of the Act, FOPs include, but are not limited to: (1) Hours of labor required; (2) quantities of raw materials employed; (3) amounts of energy and other utilities consumed; and (4) representative capital costs, including depreciation. The Department based NV on FOPs and consumption quantities reported by Jiuli TC for materials, energy, labor and packing.

Factor Valuation Methodology

In accordance with section 773(c) of the Act, the Department calculated NV based on FOP data reported by Jiuli TC. To obtain the input costs used to calculate NV, the Department multiplied the reported per-unit factor-consumption rates by publicly available Indian SVs. As appropriate, the Department adjusted input prices by including freight costs to make them delivered prices. Specifically, the Department added to Indian import SVs a surrogate freight cost using the shorter of the reported distance from the domestic supplier to the respondent's factory or the distance from the nearest seaport to the respondent's factory where appropriate. This adjustment is in accordance with the Court of Appeals for the Federal Circuit's decision in Sigma Corp. v. United States, 117 F.3d 1401, 1407-08 (Fed. Cir. 1997). A detailed description of all SVs used for Jiuli TC can be found in the Surrogate Value Memorandum.

In selecting SVs, the Department considered the quality, specificity, and contemporaneity of the data.²² Further, in accordance with section 773(c)(1) of the Act and Departmental practice, the Department selected, to the extent practicable, SVs which are non-export average values, contemporaneous with the POR, product-specific, and tax-exclusive.²³ In the instant review, the Department used Indian import statistics from the Global Trade Atlas (“GTA”), as published by Global Trade Information Services, and other publicly available Indian sources in order to calculate SVs for Jiuli TC's FOPs (i.e., direct materials, energy, packing materials) and certain movement expenses. The record shows that data in the GTA Indian import statistics, as well as those from the other Indian sources, are contemporaneous with the POR, product-specific, and tax-exclusive.²⁴ In those instances where we could not obtain publicly available information contemporaneous to the POR with which to value factors, we adjusted the SVs using, where appropriate, the Indian Wholesale Price Index as published in the International Monetary Fund's International Financial Statistics.²⁵

²² See, e.g., Fresh Garlic From the People's Republic of China: Final Results of Antidumping Duty New Shipper Review, 67 FR 72139 (December 4, 2002) and accompanying Issues and Decision Memorandum at Comment 6; Final Results of First New Shipper Review and First Antidumping Duty Administrative Review: Certain Preserved Mushrooms From the People's Republic of China, 66 FR 31204 (June 11, 2001) and accompanying Issues and Decision Memorandum at Comment 5.

²³ See, e.g., Notice of Preliminary Determination of Sales at Less Than Fair Value, Negative Preliminary Determination of Critical Circumstances and Postponement of Final Determination: Certain Frozen and Canned Warmwater Shrimp From the Socialist Republic of Vietnam, 69 FR 42672, 42682 (July 16, 2004), unchanged in Final Determination of Sales at Less Than Fair Value: Certain Frozen and Canned Warmwater Shrimp From the Socialist Republic of Vietnam, 69 FR 71005 (December 8, 2004).

²⁴ See Surrogate Value Memorandum at Exhibit 1.

²⁵ See, e.g., Certain Kitchen Appliance Shelving and Racks From the People's Republic of China: Preliminary Determination of Sales at Less Than Fair Value and Postponement of Final Determination, 74 FR 9591, 9600 (March 5, 2009), unchanged in Certain Kitchen Appliance Shelving and Racks From the People's Republic of China: Final Determination of Sales at Less than Fair Value, 74 FR 36656 (July 24, 2009).

Jiuli TC reported that one of its raw material inputs, steel, was sourced in part from market-economy countries and paid for in market-economy currencies. Pursuant to 19 CFR 351.408(c)(1), when a respondent sources inputs from a market-economy supplier in meaningful quantities (i.e., not insignificant quantities), the Department normally will only use the actual price paid by the respondent to value those inputs except when prices may have been distorted by findings of dumping by the PRC and/or subsidies.²⁶ Where the facts developed in either U.S. or third-country countervailing duty findings include the existence of subsidies that appear to be used generally (in particular, broadly available, non-industry specific export subsidies), the Department will have reason to believe or suspect that prices of the inputs from the country granting the subsidies may be subsidized.²⁷ Information reported by Jiuli TC demonstrates that it did not purchase significant quantities (i.e., 33 percent or more) of steel from market-economy suppliers. Thus, to value steel, the Department weight-averaged the market-economy purchase price and the appropriate surrogate value for steel using the market economy and NME percentages of the reported total volume of purchases.²⁸ Where appropriate, we added freight to the market-economy purchase price of steel.

²⁶ See Antidumping Duties; Countervailing Duties, 62 FR 27296, 27366 (May 19, 1997); see also Tapered Roller Bearings and Parts Thereof, Finished and Unfinished, From the People's Republic of China; Final Results of 1998-1999 Administrative Review, Partial Rescission of Review, and Determination Not To Revoke Order in Part, 66 FR 1953 (January 10, 2001) (“TRBs 1998-1999”), and accompanying Issues and Decision Memorandum at Comment 1.

²⁷ See TRBs 1998-1999 at Comment 1; see also Tapered Roller Bearings and Parts Thereof, Finished and Unfinished, From the People's Republic of China; Final Results of 1999-2000 Administrative Review, Partial Rescission of Review, and Determination Not To Revoke Order in Part, 66 FR 57420 (November 15, 2001), and accompanying Issues and Decision Memorandum at Comment 1; China National Machinery Imp. & Exp. Corp. v. United States, 293 F. Supp. 2d 1334, 1338-39 (Ct. Int'l Trade 2003).

²⁸ See Antidumping Methodologies: Market Economy Inputs, Expected Non-Market Economy Wages, Duty Drawback; and Request for Comments, 71 FR 61716, 61717 (October 19, 2006) (“Antidumping Methodologies”).

In accordance with legislative history, the Department continues to apply its long-standing practice of disregarding SVs if it has a reason to believe or suspect the source data may be subsidized.²⁹ In this regard, the Department has previously found that it is appropriate to disregard such prices from India, Indonesia, South Korea and Thailand because we have determined that these countries maintain broadly available, non-industry specific export subsidies.³⁰ Based on the existence of these subsidy programs that were generally available to all exporters and producers in these countries at the time of the POR, the Department finds that it is reasonable to infer that all exporters from India, Indonesia, South Korea and Thailand may have benefitted from these subsidies. Therefore, the Department has not used prices from Indonesia, South Korea and Thailand in calculating the Indian import-based SVs.

²⁹ Omnibus Trade and Competitiveness Act of 1988, Conf. Report to Accompany H.R. 3, H.R. Rep. No. 576, 100th Cong., 2nd Sess. (1988) at 590.

³⁰ See e.g., Carbazole Violet Pigment 23 from India: Final Results of the Expedited Five-year (Sunset) Review of the Countervailing Duty Order, 75 FR 13257 (March 19, 2010) and accompanying Issues and Decision Memorandum at 4-5; Certain Cut-to-Length Carbon-Quality Steel Plate from Indonesia: Final Results of Expedited Sunset Review, 70 FR 45692 (August 8, 2005) and accompanying Issues and Decision Memorandum at 4; Corrosion-Resistant Carbon Steel Flat Products from the Republic of Korea: Final Results of Countervailing Duty Administrative Review, 74 FR 2512 (January 15, 2009) and accompanying Issues and Decision Memorandum at 17, 19-20; Final Affirmative Countervailing Duty Determination: Certain Hot-Rolled Carbon Steel Flat Products From Thailand, 66 FR 50410 (October 3, 2001) and accompanying Issues and Decision Memorandum at 23.

Additionally, the Department disregarded prices from NME countries. Finally, imports that were labeled as originating from an “unspecified” country were excluded from the average value because the Department could not be certain that they were not from either an NME country or a country with general export subsidies.³¹

³¹ See Polyethylene Terephthalate Film, Sheet, and Strip from the People's Republic of China: Preliminary Determination of Sales at Less Than Fair Value, 73 FR 24552, 24559 (May 5, 2008), unchanged in Polyethylene Terephthalate Film, Sheet, and Strip from the People's Republic of China: Final Determination of Sales at Less Than Fair Value, 73 FR 55039 (September 24, 2008).

On May 14, 2010, the Court of Appeals for the Federal Circuit (“CAFC”) in Dorbest Ltd. v. United States, 604 F.3d 1363, 1372 (CAFC 2010), found that the {regression-based} method for calculating wage rates, as stipulated by 19 CFR 351.408(c)(3), uses data not permitted by the statutory requirements laid out in section 773 of the Act (i.e., 19 U.S.C. 1677b(c)).

The Department is continuing to evaluate options for determining labor values in light of the recent CAFC decision. However, for these preliminary results, we have calculated an hourly wage rate to use in valuing the respondent's reported labor input by averaging industry-specific earnings and/or wages in countries that are economically comparable to the PRC and that are significant producers of comparable merchandise.

For the preliminary results of this review, the Department is valuing labor using a simple average industry-specific wage rate using earnings or wage data reported under Chapter 5B by the International Labor Organization (“ILO”). To achieve an industry-specific labor value, we relied on industry-specific labor data from the countries we determined to be both economically comparable to the PRC and significant producers of comparable merchandise. A full description of the industry-specific wage rate calculation methodology is provided in the Surrogate Value Memorandum. The Department calculated a simple average industry-specific wage rate of $1.36 for these preliminary results. Specifically, for this review, the Department has calculated the wage rate using a simple average of the data provided to the ILO under Sub-Classification 28 of the ISIC—Revision 3 standard by countries determined to be both economically comparable to the PRC and significant producers of comparable merchandise. The Department finds the two-digit description under International Standard Industrial Classification—Revision 3 (“Manufacture of fabricated metal products, except machinery and equipment”) to be the best available wage rate surrogate value on the record because it is specific and derived from industries that produce merchandise comparable to the subject merchandise. Consequently, we averaged the ILO industry-specific wage rate data or earnings data available from the following countries found to be economically comparable to the PRC and significant producers of comparable merchandise: Ecuador, Egypt, Indonesia, Jordan, Peru, the Philippines, Thailand, and Ukraine.³² For further information on the calculation of the wage rate, see Surrogate Value Memorandum.

³² Because India (the primary surrogate country) did not report wage data in ISIC-Revision 3, which was relied upon for industry-specific wage rates in these preliminary results, it is not among the countries that the Department considered for inclusion in the average.

The Department valued truck freight expenses using a per-unit average rate calculated from data on the infobanc Web site: http://www.infobanc.com/logistics/logtruck.htm. The logistics section of this Web site contains inland freight truck rates between many large Indian cities. The value is contemporaneous with the POR.³³

³³ See Surrogate Value Memorandum at Exhibit 11.

The Department valued electricity using price data for small, medium, and large industries, as published by the Central Electricity Authority of the Government of India in its publication entitled “Electricity Tariff & Duty and Average Rates of Electricity Supply in India,” dated March 2008. These electricity rates represent actual country-wide, publicly available information on tax-exclusive electricity rates charged to small, medium, and large industries in India. We did not inflate this value because utility rates represent current rates, as indicated by the effective dates listed for each of the rates provided.³⁴ We valued water using the revised Maharashtra Industrial Development Corporation water rates available at http://www.midcindia.com/water-supply.

³⁴ See Surrogate Value Memorandum at Exhibit 7.

At verification, we obtained records from one month of the POR which allow us to calculate a scrap offset that is more specific to subject merchandise than Jiuli TC's reported scrap offset. We do not, however, have these records for the entire POR. Because necessary information is not on the record for the entire POR, pursuant to section 776(a) of the Act, as facts available, we are basing Jiuli TC's POR scrap offset for subject merchandise on record information obtained at verification for one month of the POR. See Surrogate Value Memorandum.

The Department valued brokerage and handling expenses using a price list for procedures necessary to export a standardized cargo of goods in India. The price list is compiled based on a survey of the procedural requirements for trading a standard shipment of goods by ocean freight in India that is published in Doing Business 2009: India by the World Bank. Because these data were current throughout the POR, we did not inflate the value for brokerage and handling.³⁵

³⁵ See Surrogate Value Memorandum at Exhibit 13.

The Department valued factory overhead, selling, general, and administrative expenses, and profit using data from two Indian companies, Ratnamani and Jindal, producers of merchandise both identical and comparable to the subject merchandise, for the fiscal year January 1, 2009, through March 31, 2010.³⁶

³⁶ See Surrogate Value Memorandum at Exhibit 9. Also note that Jindal changed its financial reporting period from the calendar year (January 1 to December 31) to the Indian fiscal calendar year (April 1 to March 31). As a result, Jindal's 2009-2010 financial statement shows a 15 month period (January 1, 2009, to March 31, 2010) because it reflects this transition.

Currency Conversion

The Department made currency conversions into U.S. dollars, in accordance with section 773A(a) of the Act, based on the exchange rates in effect on the dates of the U.S. sales as certified by the Federal Reserve Bank. These exchange rates are available on Import Administration's Web site at http://ia.ita.doc.gov/exchange/index.html.

Preliminary Results of Review

The Department preliminarily determines that the following weighted-average dumping margin exists:

Exporter | Weighted-average percent margin
Zhejiang Jiuli Hi-Tech Metals Co., Ltd./Huzhou Jiuli Welded Stainless Steel Pipe Co., Ltd. | 0.01

Disclosure

The Department will disclose the calculations performed within five days of the date of publication of this notice to parties in this proceeding in accordance with 19 CFR 351.224(b).

Public Comment

Interested parties may submit written comments no later than 30 days after the date of publication of these preliminary results of review.³⁷ Parties that submit comments are requested to submit with each argument a statement of the issue and a brief summary of the argument. Rebuttal comments must be limited to the issues raised in the written comments and may be filed no later than five days after the deadline for filing case briefs.³⁸ Parties submitting written comments or rebuttals are requested to provide the Department with an additional copy of those comments on CD-ROM. Any interested party may request a hearing within 30 days of publication of these preliminary results.³⁹ Any hearing, if requested, ordinarily will be held two days after the scheduled date for submission of rebuttal briefs.⁴⁰ Parties should confirm by telephone the date, time, and location of the hearing two days before the scheduled date.

³⁷ See 19 CFR 351.309(c)(1)(ii).

³⁸ See 19 CFR 351.309(d).

³⁹ See 19 CFR 351.310(c).

⁴⁰ See 19 CFR 351.310(d).

The Department will issue the final results of the administrative review, which will include the results of its analysis of issues raised in the briefs, within 120 days of publication of these preliminary results, in accordance with 19 CFR 351.213(h)(1) unless the time limit is extended.

Assessment Rates

Pursuant to 19 CFR 351.212, the Department will determine, and U.S. Customs and Border Protection (“CBP”) shall assess, antidumping duties on all appropriate entries of subject merchandise in accordance with the final results of this review. For assessment purposes, in accordance with 19 CFR 351.212(b)(1), the Department calculated exporter/importer (or customer)-specific assessment rates for merchandise subject to this review. Where the respondent has reported reliable entered values, the Department calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importer's/customer's entries during the POR. See 19 CFR 351.212(b)(1). Where an importer (or customer)-specific ad valorem rate is zero or de minimis (i.e., less than 0.50 percent), the Department will instruct CBP to liquidate that importer's (or customer's) entries of subject merchandise without regard to antidumping duties. See 19 CFR 351.106(c)(2).

The Department intends to issue appropriate assessment instructions directly to CBP 15 days after publication of the final results of this review. The Department intends to instruct CBP to liquidate entries containing subject merchandise exported by the PRC-wide entity at the PRC-wide rate in the final results of this review.

Cash Deposit Requirements

The following cash deposit requirements will be effective upon publication of the final results of this review for all shipments of subject merchandise from the PRC entered, or withdrawn from warehouse, for consumption on or after the publication date, as provided for by section 751(a)(2)(C) of the Act: (1) For the exporter listed above, the cash deposit rate will be that established in the final results of this review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 55.21 percent; and (4) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

The Department is issuing and publishing these preliminary results of administrative review in accordance with section 777(i)(1) of the Act, and 19 CFR 351.221(b)(4).

Dated: March 25, 2011.
Ronald K. Lorentzen,
Deputy Assistant Secretary for Import Administration.

[FR Doc. 2011-7621 Filed 3-30-11; 8:45 am]

BILLING CODE 3510-DS-P